FEDERAL RETIREMENT THRIFT INVESTMENT BOARD

Sunshine Act; Notice

TIME AND DATE: 9 a.m. (est); March 20, 2006.

PLACE: 4th Floor Conference Room, 1250 H Street, NW., Washington, DC.

STATUS: Open.

MATTERS TO BE CONSIDERED:

1. Approval of the minutes of the February 21, 2006, Board Member meeting.

2. Thrift Savings Plan activity report by the Executive Director.

CONTACT PERSON FOR MORE INFORMATION: Thomas J. Trabucco, Director, Office of External Affairs, (202) 942-1640.

Dated: March 6, 2006.
Thomas K. Emswiler,
Acting General Counsel, Federal Retirement Thrift Investment Board.

[FR Doc. 06-2325 Filed 3-7-06; 1:01 pm]

BILLING CODE 6760-01-P